DEPARTMENT OF EDUCATION

[Docket No.: ED-2023-SCC-0028]

Agency Information Collection Activities; Submission to the Office of Management and Budget for Review and Approval; Comment Request; Evaluation of Strategies To Address Unfinished Learning in Math (ReSolve Math Study)

AGENCY: Institute of Education Sciences (IES), Department of Education (ED).

ACTION: Notice.

SUMMARY: In accordance with the Paperwork Reduction Act (PRA) of 1995, the Department is proposing a new information collection request (ICR).

DATES: Interested persons are invited to submit comments on or before June 23, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Thomas Wei, (646) 428-3892.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Strategies to Address Unfinished Learning in Math (ReSolve Math Study).

OMB Control Number: 1850-NEW.

Type of Review: New ICR.

Respondents/Affected Public: Individuals or Households.

Total Estimated Number of Annual Responses: 12,640.

Total Estimated Number of Annual Burden Hours: 2,559.

Abstract: The COVID-19 pandemic led to substantial unfinished learning in math and an important debate about how best to address it. Traditionally, policymakers and educators have advocated a “broad foundation skill building” approach, but an alternative “just-in-time skill building” approached has received more attention recently, including in the U.S. Department of Education's COVID-19 Handbook. But there is limited evidence comparing these approaches. This evaluation will examine the effectiveness of adaptive technology products that deliver these two catch-up strategies in elementary schools, where teachers often struggle with how to teach math well and the benefits of using technology supports are understudied. The findings will provide valuable evidence, especially for low-performing schools identified under the Every Student Succeeds Act and their most underserved students. This package requests approval for data collection activities to conduct the evaluation.

Dated: May 18, 2023.
Juliana Pearson,
PRA Coordinator, Strategic Collections and Clearance, Governance and Strategy Division, Office of Chief Data Officer, Office of Planning, Evaluation and Policy Development.

[FR Doc. 2023-10997 Filed 5-23-23; 8:45 am]

BILLING CODE 4000-01-P